DEPARTMENT OF THE INTERIOR

Fish and Wildlife Service

50 CFR Part 17

[FF09E21000 FXES1111090FEDR 223]

Endangered and Threatened Wildlife and Plants; Three Species Not Warranted for Listing as Endangered or Threatened Species

AGENCY: Fish and Wildlife Service, Interior.

ACTION: Notification of findings.

SUMMARY: We, the U.S. Fish and Wildlife Service (Service), announce findings that three species are not warranted for listing as endangered or threatened species under the Endangered Species Act of 1973, as amended (Act). After a thorough review of the best available scientific and commercial information, we find that it is not warranted at this time to list Blanco blind salamander (Eurycea robusta), Georgia bully (Sideroxylon thornei), and Rio Grande cooter (Pseudemys gorzugi). However, we ask the public to submit to us at any time any new information relevant to the status of any of the species mentioned above or their habitats.

DATES: The findings in this document were made on March 14, 2022.

ADDRESSES: Detailed descriptions of the bases for these findings are available on the internet at https://www.regulations.gov under the following docket numbers:

Species | Docket No.
Blanco blind salamander | FWS-R2-ES-2021-0128
Georgia bully | FWS-R4-ES-2021-0129
Rio Grande cooter | FWS-R2-ES-2021-0132

Those descriptions are also available by contacting the appropriate person as specified under FOR FURTHER INFORMATION CONTACT. Please submit any new information, materials, comments, or questions concerning this finding to the appropriate person, as specified under FOR FURTHER INFORMATION CONTACT.

FOR FURTHER INFORMATION CONTACT:

Species | Contact information
Blanco blind salamander and Rio Grande cooter | Adam Zerrenner, Field Supervisor, Austin Ecological Services Field Office, adam_zerrenner@fws.gov, 512-490-0057 x248.
Georgia bully | Peter Maholland, Deputy Field Supervisor, Georgia Ecological Services Field Office, peter_maholland@fws.gov, 706-208-7512.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under section 4(b)(3)(B) of the Act (16 U.S.C. 1531 et seq.), we are required to make a finding whether or not a petitioned action is warranted within 12 months after receiving any petition for which we have determined contains substantial scientific or commercial information indicating that the petitioned action may be warranted (“12-month finding”). We must make a finding that the petitioned action is: (1) Not warranted; (2) warranted; or (3) warranted, but precluded by other listing activity. We must publish a notification of these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists of Endangered and Threatened Wildlife and Plants (Lists). The Act defines “species” as including any subspecies of fish or wildlife or plants, and any distinct population segment of any species of vertebrate fish or wildlife which interbreeds when mature (16 U.S.C. 1532(16)). The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself. However, the mere identification of any threat(s) does not necessarily mean that the species meets the statutory definition of an “endangered species” or a “threatened species.” In determining whether a species meets either definition, we must evaluate all identified threats by considering the expected response by the species, and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the Act's definition of an “endangered species” or a “threatened species” only after conducting this cumulative analysis and describing the expected effect on the species now and in the foreseeable future.

The Act does not define the term “foreseeable future,” which appears in the statutory definition of “threatened species.” Our implementing regulations at 50 CFR 424.11(d) set forth a framework for evaluating the foreseeable future on a case-by-case basis. The term “foreseeable future” extends only so far into the future as the Service can reasonably determine that both the future threats and the species' responses to those threats are likely. In other words, the foreseeable future is the period of time in which we can make reliable predictions. “Reliable” does not mean “certain”; it means sufficient to provide a reasonable degree of confidence in the prediction. Thus, a prediction is reliable if it is reasonable to depend on it when making decisions.

It is not always possible or necessary to define foreseeable future as a particular number of years. Analysis of the foreseeable future uses the best scientific and commercial data available and should consider the timeframes applicable to the relevant threats and to the species' likely responses to those threats in view of its life-history characteristics. Data that are typically relevant to assessing the species' biological response include species-specific factors such as lifespan, reproductive rates or productivity, certain behaviors, and other demographic factors.

In conducting our evaluation of the five factors provided in section 4(a)(1) of the Act to determine whether Georgia bully and Rio Grande cooter meet the Act's definition of “endangered species” or “threatened species,” we considered and thoroughly evaluated the best scientific and commercial information available regarding the past, present, and future stressors and threats. In conducting our evaluation of the Blanco blind salamander, we determined that it either: (1) Does not meet the definition of a “species” under the Act, and, as a result, we conclude that it is not a listable entity; or (2) is extinct. We reviewed the petitions, information available in our files, and other available published and unpublished information for all of these species. Our evaluation may include information from recognized experts; Federal, State, and Tribal governments; academic institutions; foreign governments; private entities; and other members of the public.

The species assessment forms for these species contain more detailed biological information, a thorough analysis of the listing factors, a list of literature cited, and an explanation of why we determined that these species do not meet the Act's definition of an “endangered species” or a “threatened species.” A thorough review of the taxonomy, life history, and ecology of the Georgia bully and Rio Grande cooter is presented in each species' species status assessment (SSA) report. The species assessment form and the review report for the Blanco blind salamander contain more detailed taxonomic information, a list of literature cited, and an explanation of why we determined that the Blanco blind salamander either does not meet the Act's definition of a “species” or is extinct. This supporting information can be found on the internet at https://www.regulations.gov under the appropriate docket number (see ADDRESSES, above). The following are informational summaries for the findings in this document.

Georgia Bully

Previous Federal Actions

On April 20, 2010, the Service received a petition from the Center for Biological Diversity, Alabama Rivers Alliance, Clinch Coalition, Dogwood Alliance, Gulf Restoration Network, Tennessee Forests Council, and West Virginia Highlands Conservancy to list 404 aquatic, riparian, and wetland species, including Georgia bully (Sideroxylon thornei), as endangered or threatened species under the Act. On September 27, 2011, we published in the Federal Register (76 FR 59836) a partial 90-day finding that the petition presented substantial scientific or commercial information indicating that listing may be warranted for 374 of the species, including Georgia bully. The finding stated that the petition presented substantial information indicating that listing Georgia bully may be warranted due to disease or predation. This document constitutes the 12-month finding on the April 20, 2010, petition to list Georgia bully under the Act.

Summary of Finding

A member of the Sapotaceae family, Georgia bully is a shrub or small tree that grows up to 6 meters (20 feet) in height, and is sometimes multi-stemmed but not extensively clonal. Georgia bully is known to occur in Alabama, Georgia, and Florida. The species has been found in at least 29 counties and five watersheds (Altamaha, Apalachicola, Choctawhatchee-Escambia, Mobile Bay-Tombigbee, and Ogeechee) in 3 southeastern States: Alabama, Georgia, and Florida. The stronghold of the distribution is in the Apalachicola watershed in Georgia.

Georgia bully is restricted to riparian forests and forested wetlands (i.e., swamps, bottomland forests, and depressional wetlands), where the species occurs most often in habitats developed over limestone (i.e., calcareous substrates), particularly in Georgia. Georgia bully requires shaded to partly shaded habitat conditions within a mostly intact forest overstory. The species requires wet soils and periodic inundation from flooding to provide a competitive advantage to Georgia bully since many other plant species do not tolerate flooding disturbance (e.g., decrease in oxygen, carbon dioxide, and light). Georgia bully reproduces sexually through pollination and fruit set, and asexually through vegetative means (e.g., shoots, fragments, or clones).

We have carefully assessed the best scientific and commercial information available regarding the past, present, and future threats to Georgia bully, and we evaluated all relevant factors under the five listing factors, including any regulatory mechanisms and conservation measures addressing these stressors. The primary threats affecting Georgia bully's biological status include habitat destruction and modification (including urbanization and land use change), and impacts to hydrology from climate change. We examined a number of other factors, including inherent factors (small population size), nonnative and invasive species, disease (insect damage), and predation (deer herbivory), and found that these factors may exacerbate the effects of the primary factors, but do not rise to such a level that affected the species as a whole.

Causes of habitat destruction and modification are urbanization and conversion to agricultural and silvicultural uses, including forest structure alteration due to timber harvest. Georgia bully is expected to be influenced by changes to the hydrologic regime, including periods of drought and flooding. Extended periods of drought may allow other species that outcompete Georgia bully to become established. Increased flooding events may reduce the ability for Georgia bully seedlings to become established if habitat is saturated during the germination period.

Despite impacts from the primary stressors, the species has maintained the majority of its historical occurrences throughout its range. Georgia bully currently has 16 moderately or highly resilient populations across its range in 45 populations in 3 States. Each of the five watersheds where Georgia bully occurs contains at least two moderate or highly resilient populations. Moderate and highly resilient Georgia bully populations are able to recover from stochastic events and are characterized by larger populations with recruitment and/or reproduction in habitats with intact mature overstory, wide riparian vegetated buffers, and minimal hydrological alteration. Existing protections for the species are in place with approximately 46 percent of populations on protected lands, including the two largest populations. Threats continue to impact Georgia bully and its habitat, and effects from these impacts may result in a decrease in habitat quality and quantity across the species' range; however, ongoing conservation actions offer some protection to the species.

Our future scenarios assessment included four elements of change (e.g., urbanization, land use, climate-influenced hydrology, and site-specific habitat factors) to assess the viability of Georgia bully at 30- and 60-year time steps. Upon examining the current trends and future forecast scenarios, we expect that the primary threats (habitat destruction and modification due to urbanization and land use change, and hydrology impacts associated with climate change) will continue to impact Georgia bully. Impacts to Georgia bully's population resiliency generally increase over time and with increased threats, including the threat of climate change effects. The species' representation has not declined between historical and most recent surveys, and the species' representation is expected to decline slightly under each future scenario. As moderate or highly resilient populations will persist across all watersheds, a broad level of representation is likely to be maintained over time. However, the adaptive capacity of the species will be reduced in the future as the projected population extirpations reduce the number of viable populations on the landscape, thus reducing the species potential ability to adjust to changing conditions. Georgia bully has retained redundancy based on multiple moderate and highly resilient populations being spread across its historical range in five watersheds; however, into the future, we expect the species' redundancy to decline as population resiliency is reduced, thereby impairing the species' ability to withstand and recover from catastrophic events such as storms and droughts. Although we predict some continued impacts from stressors in the future, we anticipate the species will be represented by moderate and highly resilient populations into the foreseeable future throughout its range, supported by the occurrence of 21 of the 45 known populations on protected lands and the species' ability to reproduce vegetatively (e.g., shoots, fragments, or clonal) and through pollination and fruit set giving populations additional opportunities to maintain and expand. Given projections for quality and quantity of habitat and the number of healthy (moderate to high resiliency) populations, we conclude that the species is likely to maintain the ability to withstand stochasticity, catastrophic events, and novel changes in its environment for the foreseeable future. Based on these conditions, Georgia bully's current risk of extinction is very low. Furthermore, we did not find any evidence of a concentration of threats at any biologically meaningful scale in any portion of the species' range.

Therefore, we find that listing Georgia bully as an endangered species or threatened species under the Act is not warranted. A detailed discussion of the basis for this finding can be found in the Georgia bully species assessment and other supporting documents (see ADDRESSES, above).

Rio Grande Cooter

Previous Federal Actions

On July 11, 2012, the U.S. Fish and Wildlife Service (Service) received a petition to list 53 amphibians and reptiles, including the Rio Grande cooter (Pseudemys gorzugi), as endangered or threatened under the Act and to designate critical habitat. On July 1, 2015, we published a 90-day finding that the petition presented substantial scientific or commercial information indicating that listing may be warranted for 21 species, including the Rio Grande cooter (80 FR 37568). The finding stated that the petition presented substantial information indicating that listing the Rio Grande cooter may be warranted due to the present or threatened destruction, modification, or curtailment of its habitat or range; overutilization for commercial, recreational, scientific, or educational purposes; and regulatory mechanisms inadequate to address these threats. This document constitutes the 12-month finding on the July 11, 2012, petition to list the Rio Grande cooter under the Act.

Summary of Finding

The Rio Grande cooter is a medium-to-large freshwater turtle (100-370 millimeters (3.9-14.6 inches)) that lives in the spring pools, streams, and rivers found within portions of the Rio Grande/Río Bravo watershed of the United States and Mexico. The species' range includes the Pecos River basin of New Mexico and Texas; the Devils River basin of Texas; the Rio Grande basin of Texas (below the Big Bend region) and Coahuila, Nuevo León, and Tamaulipas, Mexico; the Río Salado basin of Coahuila, Nuevo León, and Tamaulipas, Mexico; and the Río San Juan basin of Coahuila, Nuevo León, and Tamaulipas, Mexico. Within these five major river basins, Rio Grande cooter habitat includes the freshwater systems and the riparian habitat adjacent to them. The current distribution of the species is similar to its historical distribution.

As a mostly aquatic species, adequate water quality and water quantity are central to the Rio Grande cooter's ability to forage, survive, and reproduce. Water must be of adequate depth to provide protection from predation and within temperature ranges that allow for thermoregulation. Further, contaminants and other harmful constituents in water must be absent or below thresholds that would cause acute or chronic toxicity to Rio Grande cooter or the resources upon which they rely for survival, growth and reproduction. The Rio Grande cooter also requires water flows that allow for individual movements for breeding, nesting, and retreating from areas of unsuitable habitat. Additionally, the Rio Grande cooter requires upland nesting habitat with loose soils near water where eggs will be adequately thermoregulated and safe from inundation, predation, and other disturbances during incubation.

We have carefully assessed the best scientific and commercial information available regarding the past, present, and future threats to the Rio Grande cooter, and we evaluated all relevant factors under the five listing factors, including any regulatory mechanisms and conservation measures addressing these stressors. The primary stressors affecting the Rio Grande cooter's biological status include hydrological alteration, pollution, climate change (increasing demands on the surface and ground water resources that provide or support habitat for the species due to effects on climate and weather associated with rising temperatures), and direct mortality. Rio Grande cooter has limited abundance information available across its range, with a few exceptions. Therefore, we assessed species viability based on presence-only data and the condition of the species' habitat.

Despite existing within an altered system in the Rio Grande watershed and the associated impacts from the primary stressors, the Rio Grande cooter currently has multiple resilient population analysis units (10 of 16 units characterized as Low or Moderate Risk) distributed throughout its known historical range. Because Rio Grande cooter has maintained multiple resilient population analysis units across a diversity of habitat types and within all five river basins in which it historically occurred—except for the Devils River basin, which contains a single unit categorized as low risk—the species has retained redundancy and representation at the species level. Based on these conditions, the current risk of extinction for the Rio Grande cooter is low. Although we project some continued impacts from the identified stressors into the foreseeable future under two future scenarios, our analysis indicates that the Rio Grande cooter will maintain multiple, resilient population analysis units distributed throughout its historical range within each of the five major river basins. Overall, the Rio Grande cooter is projected to either maintain current levels of resiliency, representation, and redundancy or have a slight decrease in resiliency (nine of 16 population analysis units being categorized as Low or Moderate Risk) while maintaining current levels of redundancy and representation into the foreseeable future. Thus, the best available information does not indicate that the magnitude and scope of individual stressors would cause the species to be in danger of extinction in the foreseeable future. Furthermore, we did not find any evidence of a concentration of threats at any biologically meaningful scale in any portion of the species' range.

Therefore, we find that listing the Rio Grande cooter as an endangered species or threatened species under the Act is not warranted. A detailed discussion of the basis for this finding can be found in the Rio Grande cooter's species assessment and other supporting documents (see ADDRESSES, above).

Blanco Blind Salamander

Previous Federal Actions

On June 25, 2007, the Service received a petition from Forest Guardians (now WildEarth Guardians) requesting that the Service list 475 species in the Southwest Region as endangered or threatened under the Act with critical habitat. The Blanco blind salamander (Eurycea robusta) was included among the list of petitioned species. On December 16, 2009, we published in the Federal Register (74 FR 66866) a partial 90-day finding that the petition presented substantial scientific or commercial information indicating that listing may be warranted for 67 of the species, including the Blanco blind salamander. The finding stated that the petition presented substantial information indicating that listing the Blanco blind salamander may be warranted due to the present or threatened destruction, modification, or curtailment of its habitat or range resulting from water pollutants and water withdrawal. This document constitutes the 12-month finding on the June 25, 2007, petition to list the Blanco blind salamander under the Act.

Summary of Finding

We have carefully assessed the best scientific and commercial information available regarding the Blanco blind salamander and evaluated the petition's claims that the species warrants listing under the Act. We determined the type specimen on which the species' description was based either represents a historical occurrence of the federally endangered Texas blind salamander (Typhlomolge rathbuni) or it represents a unique species that is no longer extant.

To be considered an endangered or threatened species under the Act, a species' taxonomy must be valid. In our evaluation of the species' status, we found evidence that the Blanco blind salamander does not exist as a current taxonomic entity. Several morphological characters of the Blanco blind salamander overlap or are identical to the Texas blind salamander; the Blanco blind salamander specimen's size may have been influenced by chemical fixation and preservation, and may not reflect the original size of the living individual; and hydrogeological connectivity would likely facilitate movement between the Blanco River site and locations the Texas blind salamander inhabits. Given this, we find that the Blanco blind salamander type specimen is likely a Texas blind salamander individual. If it is a Texas blind salamander, then the Blanco blind salamander is not a valid taxonomic entity and, therefore, is not a listable entity under the Act.

While the best available science does indicate that the specimen collected in 1951 is a Texas blind salamander, due to the inability to conduct conclusive genetic testing, we considered the status of the Blanco blind salamander out of an abundance of caution.

Based on the best available information, if the Blanco blind salamander was in fact a valid entity, we conclude that it is now extinct. When evaluating the possibility of extinction, we attempted to minimize the possibility of either (1) prematurely determining that the species is extinct where individuals exist but remain undetected, or (2) assuming the species is extant when extinction has already occurred. Our determinations of whether the best available information indicates that a species is extinct include an analysis of the following criteria: Detectability of the species, adequacy of survey efforts, and time since last detection. All three criteria require taking into account applicable aspects of a species' life history. Other lines of evidence may also support the determination and be included in our analysis. In conducting our analysis of whether the Blanco blind salamander is extinct, we considered and thoroughly evaluated the best scientific and commercial data available. We reviewed the information available in our files, and other available published and unpublished information. These evaluations include information from recognized experts, Federal and State governments, academic institutions, and private entities.

The Edwards Aquifer, in the area of southeastern Hays County, Texas, has been and continues to be intensively sampled for its diverse and unique groundwater fauna. Beginning in the late 19th century, caves, springs, and wells in the area have yielded many new species, including the Texas blind salamander and a contingent of endemic groundwater invertebrates.

Like species with similar characteristics, the Blanco blind salamander is likely to have a low detectability. However, despite being mostly subterranean, stygobitic (i.e., living exclusively in groundwater, such as aquifers or caves) Eurycea salamanders are often surveyed at springs and caves. Surveys were conducted in 2006 to re-detect the Blanco blind salamander at the Blanco River site and several groundwater wells north of that site in Hays and Travis Counties, Texas. Additionally, researchers excavated three surface fissures in the dry bed of the Blanco River, but none of the excavations extended to subterranean voids, and no salamanders were observed. Groundwater wells were surveyed north of the Blanco River 8 to 25 kilometers (5 to 15 miles) away from the locality of the Blanco specimen and did not yield stygobitic Eurycea salamanders, although they did extend into subterranean habitats. Recent survey efforts of wells and springs in Hays County in 2020 and 2021 have also not resulted in discovery of Blanco blind salamanders or other stygobitic Eurycea salamanders to date. Conversely, Texas blind salamanders are regularly observed and collected during surveys of caves, spring openings, and groundwater wells by permitted researchers from several localities in the City of San Marcos, Texas.

Since 1951, no stygobitic Eurycea salamanders have been collected from the Blanco River or areas to the north of the river in Hays County. Despite its low detectability, given the combination of surveys at the original locality and repeated surveys from surface and subterranean habitats nearby, we conclude that these efforts were adequate to detect the Blanco blind salamander should individuals exist. If the Blanco blind salamander was a valid taxon, we have no evidence that the species has remained extant for the past 70 years; thus, we conclude it is extinct.

In conclusion, based on the best available information, we have determined that the Blanco blind salamander is not a valid taxonomic entity and, accordingly, does not meet the statutory definition of a listable entity under the Act. Additionally, even if our conclusion is incorrect and the Blanco blind salamander was a valid taxonomic entity, it has not been collected in over 70 years despite survey efforts; thus, we have no evidence it has remained extant. Because the Blanco blind salamander either does not meet the definition of a listable entity or is extinct, it does not warrant listing under the Act. A detailed discussion of the basis for this finding can be found in the Blanco blind salamander species assessment form and other supporting documents (see ADDRESSES, above).

New Information

We request that you submit any new information concerning the taxonomy of, biology of, ecology of, status of, or stressors to Blanco blind salamander, Georgia bully, or Rio Grande cooter to the appropriate person, as specified under FOR FURTHER INFORMATION CONTACT, whenever it becomes available. New information will help us monitor these species and make appropriate decisions about their conservation and status. We encourage local agencies and stakeholders to continue cooperative monitoring and conservation efforts.

References Cited

A list of the references cited in this petition finding is available in the relevant species assessment form, which is available on the internet at https://www.regulations.gov in the appropriate docket (see ADDRESSES, above) and upon request from the appropriate person (see FOR FURTHER INFORMATION CONTACT, above).

Authors

The primary authors of this document are the staff members of the Species Assessment Team, Ecological Services Program.

Authority

The authority for this action is section 4 of the Endangered Species Act of 1973, as amended (16 U.S.C. 1531 et seq.).

Martha Williams,
Director, U.S. Fish and Wildlife Service.

[FR Doc. 2022-05331 Filed 3-11-22; 8:45 am]

BILLING CODE 4333-15-P